DEPARTMENT OF THE INTERIOR

National Park Service

[2253-665]

Notice of Inventory Completion: Homer Society of Natural History, Pratt Museum, Homer, AK

AGENCY: National Park Service, Interior.

ACTION: Notice.

SUMMARY: The Homer Society of Natural History, Pratt Museum has completed an inventory of human remains, in consultation with the appropriate Indian tribes, and has determined that there is a cultural affiliation between the human remains and present-day Indian tribes. Representatives of any Indian tribe that believes itself to be culturally affiliated with the human remains may contact the Homer Society of Natural History, Pratt Museum. Repatriation of the human remains to the Indian tribe stated below may occur if no additional claimants come forward.

DATES: Representatives of any Indian tribe that believes it has a cultural affiliation with the human remains should contact the Homer Society of Natural History, Pratt Museum at the address below by August 22, 2011.

ADDRESSES: Dr. Cusack-McVeigh, Pratt Museum, 3779 Bartlett St., Homer, AK 99603, telephone (907) 435-3338.

SUPPLEMENTARY INFORMATION: Notice is here given in accordance with the Native American Graves Protection and Repatriation Act (NAGPRA), 25 U.S.C. 3003, of the completion of an inventory of human remains in the possession of the Homer Society of Natural History, Pratt Museum, Homer, AK. The human remains were removed from Kachemak Bay, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Pratt Museum professional Curator and the Office of History and Archaeology for the State of Alaska, in consultation with representatives of the Kenaitze Indian Tribe, Native Village of Nanwalek (IRA Council), Ninilchik Village, Native Village of Port Graham, and Seldovia Village Tribe. Through the consultation process, and at the request of the Kenaitze Indian Tribe, Ninilchik Indian Tribe, and the Native Village of Nanwalek (IRA Council), the human remains described in this notice will be repatriated to the Seldovia Village Tribe for reburial.

History and Description of the Remains

In 1982, a human remain representing one individual (HM-82-165-1) was found at Bishop's Beach, Kachemak Bay, in Homer, AK. On February 11, 1982, the skull was brought to the museum by Teri Dobbs. No known individual was identified. No associated funerary objects are present.

The card catalog indicates that the skull was found following a mudslide, approximately 1 mile north of Bishop's Beach. Originally identified as “Caucasian,” the museum now concludes that this single cranium belongs to a person of “Caucasian admixture, possibly Caucasian-Negroid or Caucasian-Mongoloid”; the facial flattening indicates Mongoloid (Asian or Native) characteristics. Based on the general appearance and condition of the skull, death occurred anywhere from 50 to 125 years ago. Although there are no known historic cemeteries in the area, remains belonging to a Native Alaskan were subsequently recovered from the same general location as this skull. The Native Alaskan community in this area has a history of mixed European and Native Alaskan heritage. For example, populations having Russian fathers and Native Alaskan mothers were common. Therefore, the museum believes the preponderance of the evidence shows that these remains are Native Alaskan. This determination of Native Alaskan ancestry is outlined in a December 17, 2010, report produced by the Office of History and Archaeology.

In 1993, human remains representing one individual were recovered from a bluff at Bishop's Beach, Kachemak Bay, in Homer, AK, by a private individual. The human remains were given to the museum under a 1993 Gift Agreement (PM-1993-4). No known individual was identified. No associated funerary objects are present.

The archeological and historical documentary evidence show that Kachemak Bay was used by both Dena'ina Athabascan and Sugpiaq Alutiiq ancestors. The relatively recent date for these crania (estimated postmortem interval in the 50-125 year range) suggests that these two individuals may have been associated with a nearby, large early 20th century coal mining venture or an unmarked Native cemetery.

Determinations Made by the Homer Society of Natural History, Pratt Museum

Officials of the Homer Society of Natural History, Pratt Museum have determined that:

• Pursuant to 25 U.S.C. 3001(9), the human remains described above represent the physical remains of two individuals of mixed Native American ancestry.

• Pursuant to 25 U.S.C. 3001(2), there is a relationship of shared group identity that can be reasonably traced between the Native American human remains and the Kenaitze Indian Tribe, Native Village of Nanwalek (IRA Council), Ninilchik Village, Native Village of Port Graham, and/or Seldovia Village Tribe.

Additional Requestors and Disposition

Representatives of any other Indian tribe that believes itself to be culturally affiliated with the Native American human remains should contact Dr. Cusack-McVeigh, Pratt Museum, 3779 Bartlett St., Homer, AK 99603, telephone (907) 435-3338, before August 22, 2011. Repatriation of the human remains to the Seldovia Village Tribe may proceed after that date if no additional claimants come forward.

The Pratt Museum is responsible for notifying the Kenaitze Indian Tribe, Native Village of Nanwalek (IRA Council), Ninilchik Village, Native Village of Port Graham, and Seldovia Village Tribe that this notice has been published.

Dated: July 14, 2011
Sangita Chari,
Acting Manager, National NAGPRA Program.

[FR Doc. 2011-18350 Filed 7-20-11; 8:45 am]

BILLING CODE 4312-50-P